DEPARTMENT OF AGRICULTURE

Forest Service

Flathead Resource Advisory Committee; Meeting

AGENCY: Forest Service, USDA.

ACTION: Notice of meeting.

SUMMARY: The Flathead Resource Advisory Committee (RAC) will meet in Kalispell, Montana. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/main/flathead/workingtogether/advisorycommittees.

DATES: The meetings will be held on the following dates:

• Monday, September 20, 2019, at 4:00 p.m.;

• Tuesday, October 1, 2019, at 4:00 p.m.;

• Thursday, October 3, 2019, at 4:00 p.m.;

• Monday, October 7, 2019, at 4:00 p.m.;

• Tuesday, October 8, 2019, at 4:00 p.m.; and

• Thursday, October 10, 2019, at 4:00 p.m.

All RAC meetings are subject to cancellation. For status of the meetings prior to attendance, please contact Meghan Mulholland, RAC Coordinator, by phone at 406-758-5252 or via email at meghan.mulholland@usda.gov.

ADDRESSES: The meetings will be held at the Flathead National Forest, Supervisor's Office, 650 Wolfpack Way, Kalispell, Montana.

Written comments may be submitted as described under Supplementary Information. All comments, including names and addresses when provided, are placed in the record and are available for public inspection and copying. The public may inspect comments received at the Flathead National Forest, Supervisor's Office. Please call ahead at 406-758-5200 to facilitate entry into the building.

FOR FURTHER INFORMATION CONTACT: Meghan Mulholland, RAC Coordinator, by phone at 406-758-5252 or via email at meghan.mulholland@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to discuss, recommend, and approve new Title II projects.

The meeting is open to the public. The agenda will include time for people to make oral statements of three minutes or less. Individuals wishing to make an oral statement should request in writing by Friday, September 13, 2019, to be scheduled on the agenda. Anyone who would like to bring related matters to the attention of the committee may file written statements with the committee staff before or after the meeting. Written comments and requests for time for oral comments must be sent to Meghan Mulholland, RAC Coordinator, 650 Wolfpack Way, Kalispell, MT 59901, by email to meghan.mulholland@usda.gov, or via facsimile to 406-758-5379.

Meeting Accommodations: If you are a person requiring reasonable accommodation, please make requests in advance for sign language interpreting, assistive listening devices, or other reasonable accommodation. For access to the facility or proceedings, please contact Meghan Mulholland, RAC Coordinator, by phone at 406-758-5252 or via email at meghan.mulholland@usda.gov. All reasonable accommodation requests are managed on a case by case basis.

Dated: July 31, 2019.
Cikena Reid,
USDA Committee Management Officer.

[FR Doc. 2019-18200 Filed 8-22-19; 8:45 am]

BILLING CODE 3411-15-P